DEPARTMENT OF ENERGY

Federal Energy Regulatory Commission

Combined Notice of Filings

Take notice that the Commission has received the following Natural Gas Pipeline Rate and Refund Report filings:

Filings Instituting Proceedings

Docket Numbers: RP16-1024-000.

Applicants: Rockies Express Pipeline LLC.

Description: § 4(d) Rate Filing: Neg Rate 2016-06-09 BP K# 949178 to be effective 6/10/2016.

Filed Date: 6/9/16.

Accession Number: 20160609-5165.

Comments Due: 5 p.m. ET 6/21/16.

Docket Numbers: RP16-1025-000.

Applicants: Sabine Pipe Line LLC.

Description: § 4(d) Rate Filing: Sabine Pipe Line LLC June 9, 2016 Nomination Timeline Cleanup Filing to be effective 7/9/2016.

Filed Date: 6/9/16.

Accession Number: 20160609-5196.

Comments Due: 5 p.m. ET 6/21/16.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

Filings in Existing Proceedings

Docket Numbers: RP16-1020-001.

Applicants: Gulf South Pipeline Company, LP.

Description: Tariff Amendment: Amendment to RP16-1020-000 to be effective 6/7/2016.

Filed Date: 6/10/16.

Accession Number: 20160610-5076.

Comments Due: 5 p.m. ET 6/22/16.

Docket Numbers: RP16-864-000.

Applicants: Columbia Gas Transmission, LLC.

Description: Report Filing: Modernization II Settlement Refund Report—RP16-314 to be effective N/A.

Filed Date: 6/10/16.

Accession Number: 20160610-5092.

Comments Due: 5 p.m. ET 6/22/16.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 13, 2016.
Nathaniel J. Davis, Sr.,
Deputy Secretary.

[FR Doc. 2016-14518 Filed 6-17-16; 8:45 am]

BILLING CODE 6717-01-P